DEPARTMENT OF TRANSPORTATION

Federal Aviation Administration

Membership in the National Parks Overflights Advisory Group Aviation Rulemaking Committee

ACTION: Notice.

SUMMARY: By Federal Register notice (See 74 FR 16442; April 10, 2009) the National Park Service (NPS) and the Federal Aviation Administration (FAA) invited interested persons to apply to fill six upcoming openings on the National Parks Overflights Advisory Group (NPOAG) Aviation Rulemaking Committee (ARC). The notice invited interested persons to apply to fill six vacancies representing commercial air tour operators (2), general aviation (1), Native American tribal (1), and environmental (2) concerns due to the incumbent members' completion of three-year term appointments on October 9, 2009. This notice informs the public of the persons selected to fill four of the six vacancies on the NPOAG ARC. Vacancies filled include the two commercial tour operator openings, the general aviation opening, and one of the environmental openings. Since the previous notice did not draw enough responses from individuals for the Native American tribal opening or the remaining environmental vacancy, NPS and FAA are also using this notice to invite other interested individuals to apply for these two remaining openings. If you responded to the initial notice, for either the Native American tribal or environmental openings, you will still be under consideration and need not re-apply.

FOR FURTHER INFORMATION CONTACT: Barry Brayer, Special Programs Staff, Federal Aviation Administration, Western-Pacific Region Headquarters, P.O. Box 92007, Los Angeles, CA 90009-2007, telephone: (310) 725-3800, e-mail: Barry.Brayer@faa.gov, or Karen Trevino, National Park Service, Natural Sounds Program, 1201 Oakridge Dr., Suite 100, Fort Collins, CO 80525, telephone: (970) 225-3563, e-mail: Karen_Trevin@nps.gov.

SUPPLEMENTARY INFORMATION:

Background

The National Parks Air Tour Management Act of 2000 (the Act) was enacted on April 5, 2000, as Public Law 106-181. The Act required the establishment of the advisory group within 1 year after its enactment. The NPOAG was established in March 2001. The advisory group is comprised of a balanced group of representatives of general aviation, commercial air tour operations, environmental concerns, and Native American tribes. The Administrator of the FAA and the Director of NPS (or their designees) serve as ex officio members of the group. Representatives of the Administrator and Director serve alternating 1-year terms as chairman of the advisory group.

In accordance with the Act, the advisory group provides “advice, information, and recommendations to the Administrator and the Director—

(1) On the implementation of this title [the Act] and the amendments made by this title;

(2) On commonly accepted quiet aircraft technology for use in commercial air tour operations over a national park or tribal lands, which will receive preferential treatment in a given air tour management plan;

(3) On other measures that might be taken to accommodate the interests of visitors to national parks; and

(4) At the request of the Administrator and the Director, safety, environmental, and other issues related to commercial air tour operations over a national park or tribal lands.”

Membership

The current NPOAG ARC is made up of one member representing general aviation, three members representing the commercial air tour industry, four members representing environmental concerns, and two members representing Native American interests.

Current members of the NPOAG ARC are as follows:

Heidi Williams representing general aviation; Alan Stephen, Elling Halvorson, and Matthew Zuccaro representing commercial air tour operators; Chip Dennerlein, Greg Miller, Kristen Brengel, and Don Barger representing environmental interests; and Rory Majenty and Richard Deertrack representing Native American tribes.

Selection

Selected to fill the air tour operator vacancies, for additional terms, are returning members Alan Stephen and Matthew Zuccaro. Selected to fill the general aviation vacancy and one of the environmental vacancies are new member Claire Kultgen and returning member Greg Miller, respectively. These members' new or additional terms begin on October 10, 2009. The term of service for NPOAG ARC members is 3 years.

Additional Openings

In order to retain balance within the NPOAG ARC with two remaining openings, the FAA and NPS invite persons interested in representing environmental and Native American tribal concerns on the ARC to contact Mr. Barry Brayer (contact information is written above in FOR FURTHER INFORMATION CONTACT).

Requests to serve on the ARC must be made to Mr. Brayer in writing and postmarked or e-mailed on or before August 25, 2009. The request should indicate whether or not you are a member of an association or group related to environmental or Native American tribal issues or concerns or have another affiliation with issues relating to aircraft flights over national parks. The request should also state what expertise you would bring to the NPOAG ARC as related to environmental or tribal concerns. The term of service for NPOAG ARC members is 3 years.

Isued in Hawthorne, CA, on July 1, 2009.
Barry Brayer,
Manager, Special Programs Staff, Western-Pacific Region.

[FR Doc. E9-16053 Filed 7-8-09; 8:45 am]

BILLING CODE M